FEDERAL ELECTION COMMISSION

Sunshine Act Meetings

FEDERAL REGISTER CITATION NOTICE OF PREVIOUS ANNOUNCEMENT: 82 FR 51253.

PREVIOUSLY ANNOUNCED TIME AND DATE OF THE MEETING: Wednesday, November 8, 2017 at 10:00 a.m.

CHANGES IN THE MEETING: The following matter will also be considered: FEC Email Management Policy.

CONTACT PERSON FOR MORE INFORMATION: Judith Ingram, Press Officer, Telephone: (202) 694-1220.

Dayna C. Brown,
Secretary and Clerk of the Commission.

[FR Doc. 2017-24338 Filed 11-3-17; 4:15 pm]

BILLING CODE 6715-01-P